DEPARTMENT OF TRANSPORTATION

Federal Aviation Administration

14 CFR Part 71

[Docket No. FAA-2022-0030; Airspace Docket No. 21-AAL-54]

RIN 2120-AA66

Modification of Class E Airspace, and Revocation of Class E Airspace; Sitka Rocky Gutierrez Airport, AK

AGENCY: Federal Aviation Administration (FAA), DOT.

ACTION: Final rule.

SUMMARY: This action modifies the Class E airspace, designated as a surface area, to properly contain instrument flight rules aircraft descending below 1,000 feet above the surface of the Earth. Additionally, this action removes Class E airspace, designated as an extension to a Class D or Class E surface area, because it is no longer needed. Lastly, this action modifies Class E airspace extending upward from 700 feet above the surface of the earth at Sitka Rocky Gutierrez Airport, AK. This action ensures the safety and management of instrument flight rules operations at the airport.

DATES: Effective 0901 UTC, July 14, 2022. The Director of the Federal Register approves this incorporation by reference action under 1 CFR part 51, subject to the annual revision of FAA Order 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783.

FOR FURTHER INFORMATION CONTACT: Gerald DeVore, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class E airspace to support instrument flight rules operations at Sitka Rocky Gutierrez Airport, AK.

History

The FAA published a notice of proposed rulemaking (NPRM) in the Federal Register for FAA-2022-0030 to modify the Class E surface airspace (87 FR 6804; February 7, 2022), revoke an area that is designated as an extension to a Class D or Class E surface area, and modify the Class E airspace extending upward from 700 feet above the surface at Sitka Rocky Gutierrez Airport, AK. Interested parties were invited to participate in this rulemaking effort by submitting written comments on the proposal to the FAA. One comment was received in favor of the proposal.

Class E2, Class E4, and Class E5 airspace designations are published in paragraphs 6002, 6004, and 6005, respectively, of FAA Order JO 7400.11F, dated August 10, 2021, and effective September 15, 2021, which is incorporated by reference in 14 CFR 71.1. The Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by modifying the Class E airspace at Sitka Rocky Gutierrez Airport, AK. The Class E airspace designated as surface area is modified, the Class E airspace area designated as an extension to a Class D or Class E surface area airspace is revoked, and the Class E airspace area extending upward from 700 feet or more above the surface is modified to contain instrument flight rules operations at airport.

The Class E airspace, designated as surface area, northwest of the airport is modified to contain instrument flight rules aircraft descending below 1,000 feet above the surface of the Earth, to contain departures until reaching the Class E airspace extending upward from 700 feet or more above the surface. Additionally the Class E airspace, designated as surface area, was reduced northeast of the airspace since it was no longer needed.

This action also removes the Class E airspace, designated as an extension to a Class D or Class E surface area. This airspace is no longer required due to the removal of the LDA/DME RWY 11 approach procedure turn.

Lastly, this action modifies the Class E airspace extending upward from 700 feet or more above the surface. The areas northwest and southwest of the airport are extended to contain arriving aircraft descending below 1,500 feet above the surface. The Class E airspace extending upward from 700 feet or more above the surface to the southwest of the airport is extended to contain departing instrument flight rules aircraft until reaching 1,200 feet above the surface of the Earth. The Class E airspace extending upward from 700 feet or more above the surface area northeast of the airport is removed because it is no longer needed.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6002 Class E Airspace Areas Designated as a Surface Area.

* * * * *

AAL AK E2 Sitka, AK [Amended]

Sitka Rocky Gutierrez Airport, AK

(Lat. 57°02′49″ N, long. 135°21′40″ W)

That airspace extending upward from the surface within a 4.1-mile radius of the airport beginning at the 105° bearing from the airport clockwise to the 337° bearing from the airport, then to the point of beginning 4.1 miles east of the airport, and within 2.7 miles each side of the 150° bearing from the airport extending from the 4.1-mile radius to 6.6 miles southeast of the airport, and within 1.5 miles each side of the 209° bearing from the airport extending from the 4.1-mile radius to 4.4 miles southwest of the airport, and within 1.2 miles each side of the 314° bearing from the airport extending from the 4.1-mile radius to 6 miles northwest of the airport, and within 1.1 miles each side of the 320° bearing from the airport extending from the 4.1-mile radius to 5.2 miles northwest of the airport.

Paragraph 6004 Class E Airspace Areas Designated as an Extension to a Class D or Class E Surface Area.

* * * * *

AAL AK E4 Sitka, AK [Removed]

Sitka Rocky Gutierrez Airport, AK

(Lat. 57°02′49″ N, long. 135°21′40″ W)

Paragraph 6005 Class E Airspace Areas Extending Upward From 700 Feet or more above the Surface of the Earth.

* * * * *

AAL AK E5 Sitka, AK [Amended]

Sitka Rocky Gutierrez Airport, AK

(Lat. 57°02′49″ N, long. 135°21′40″ W)

That airspace extending upward from 700 feet above the surface within a 7.3-mile radius of the airport beginning at the 102° bearing from the airport clockwise to the 357° bearing from the airport, then to the point of beginning 7.3 miles east of the airport, and within 4.6 miles each side of the 212° bearing from the airport, extending from the 7.3-mile radius to 25.2 miles southwest of the airport, and within 4.5 miles each side of the 316° bearing from the airport extending from the 7.3-mile radius to 9.8 miles northwest of the airport; excluding that airspace that extends beyond 12 miles from the coast.

Issued in Des Moines, Washington, on April 25, 2022.
B.G. Chew,
Acting Group Manager, Operations Support Group, Western Service Center.

[FR Doc. 2022-11591 Filed 5-31-22; 8:45 am]

BILLING CODE 4910-13-P